DEPARTMENT OF TRANSPORTATION

Federal Aviation Administration

[Docket No.: FAA-2022-0547; Summary Notice No.-2023-48]

Petition for Exemption; Summary of Petition Received; Equinox Innovative Systems

AGENCY: Federal Aviation Administration (FAA), Department of Transportation (DOT).

ACTION: Notice; extension of comment period.

SUMMARY: On December 14, 2023, the Federal Aviation Administration (FAA) published a notice in the Federal Register containing a summary of a petition from Equinox Innovative Systems seeking relief from specified requirements of Federal Aviation Regulations. The FAA is extending the comment period for this petition for exemption to allow commenters additional time to analyze the petition and prepare a response.

DATES: The comment period for the notice published December 14, 2023 at 88 FR 86718 and scheduled to close on January 3, 2024, is extended until January 10, 2024. Comments on this petition must identify the petition docket number.

ADDRESSES: Send comments identified by docket number FAA-2022-0547 using any of the following methods:

• Federal eRulemaking Portal: Go to https://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Alexander Kem at (202) 267-7571, Office of Rulemaking, Federal Aviation Administration, 800 Independence Avenue SW, Washington, DC 20591.

This notice is published pursuant to 14 CFR 11.85.

Issued in Washington, DC, on December 28, 2023.
Brandon Roberts,
Executive Director, Office of Rulemaking.

Petition for Exemption

Docket No.: FAA-2022-0547.

Petitioner: Equinox Innovative Systems.

Section(s) of 14 CFR Affected: §§ 21 Subpart H, 61.3(a)(1)(i), 91.103(b)(2), 91.105, 91.107, 91.119, 91.121, 91.151(b), 91.405(a), 91.407(a)(1), 91.409(a)(1), 91.409(a)(2), 91.417(a), and 91.417(b).

Description of Relief Sought: On December 14, 2023, the FAA published in the Federal Register a notice seeking comment regarding a petition for exemption from Equinox Innovative Systems (88 FR 86718). The petitioner seeks an exemption to conduct commercial flight operations with the Falcon Heavy tethered unmanned aircraft system (UAS). The comment period for this petition for exemption was to close January 3, 2024.

Subsequently, the FAA received a request from the Transport Workers Union of America (TWU) to extend the comment period. The TWU noted its vested interest in this petition for exemption, and further noted the upcoming Federal holidays during which its offices would be closed. Given that this petition could be precedent setting and lead to similar exemption requests from other petitioners, the TWU requested an extension to ensure ample time to scrutinize and respond to this petition.

The FAA grants the petitioner's request for an extension of the comment period. The FAA recognizes the precedent-setting potential of the petition for exemption and that an extension would help commenters craft complete and thoughtful responses. The FAA agrees that a one-week extension is appropriate. With this extension, the comment period will now close on January 10, 2024. The FAA will not grant any additional requests to further extend the comment period for this petition for exemption.

Extension of Comment Period

This notice extends the comment period for Notice No. 23-48, published December 14, 2023, at 88 FR 86718 from January 3, 2024 until January 10, 2024.

[FR Doc. 2023-28952 Filed 1-2-24; 8:45 am]

BILLING CODE 4910-13-P